DEPARTMENT OF HEALTH AND HUMAN SERVICES

National Institutes of Health

Center for Scientific Review; Cancellation of Meeting

Notice is hereby given of the cancellation of the Center for Scientific Review Special Emphasis Panel Program Project National Center for Biomedical Imaging and Bioengineering, June 02, 2025, 10:00 a.m. to June 04, 2025, 5:00 p.m., National Institutes of Health, Rockledge II, 6701 Rockledge Drive, Bethesda, MD, 20892 which was published in the Federal Register on May 9, 2025, 90 FR 19725, Doc. No. 2025-08184.

This notice is being amended to announce that the meeting is cancelled.

Dated: May 30, 2025.
Bruce A. George,
Program Analyst, Office of Federal Advisory Committee Policy.

[FR Doc. 2025-10143 Filed 6-3-25; 8:45 am]

BILLING CODE 4140-01-P